SMALL BUSINESS ADMINISTRATION

[Disaster Declaration #10178 and #10179]

Mississippi Disaster Number MS-00005

AGENCY: Small Business Administration.

ACTION: Amendment 5.

SUMMARY: This is an amendment of the Presidential declaration of a major disaster for the State of Mississippi (FEMA-1604-DR), dated 08/29/2005.

Incident: Hurricane Katrina.

Incident Period: 08/29/2005 through 10/14/2005.

Effective Date: 12/28/2005.

Physical Loan Application Deadline Date: 03/11/2006.

EIDL Loan Application Deadline Date: 05/29/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Mississippi, dated 08/29/2005, is hereby amended to extend the deadline for filing applications for physical damages as a result of this disaster to 03/11/2006.

All other information in the original declaration remains unchanged.

(Catalog of Federal Domestic Assistance Numbers 59002 and 59008)

Allan I. Hoberman,
Acting Associate Administrator for Disaster Assistance.

[FR Doc. E6-121 Filed 1-9-06; 8:45 am]

BILLING CODE 8025-01-P